DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2021, through March 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Ronny Ball, Jamestown, Pennsylvania, Court of Federal Claims No: 21-1007V

2. Stacey Gooding, Washington, District of Columbia, Court of Federal Claims No: 21-1009V

3. Camille Nyboer, Baton Rouge, Louisiana, Court of Federal Claims No: 21-1010V

4. Currin M. Hamilton, Louisville, Kentucky, Court of Federal Claims No: 21-1012V

5. Jessica Soileau Canning on behalf of N.S., Phoenix, Arizona, Court of Federal Claims No: 21-1016V

6. M.K.S., Dubuque, Iowa, Court of Federal Claims No: 21-1018V

7. Norma Perez, Zapata, Texas, Court of Federal Claims No: 21-1022V

8. Sou Moua, Charlotte, North Carolina, Court of Federal Claims No: 21-1023V

9. Kim Gentry, Mountain Home, Tennessee, Court of Federal Claims No: 21-1024V

10. Dawn Johnson, Washington, District of Columbia, Court of Federal Claims No: 21-1025V

11. Sam Masangcay, Washington, District of Columbia, Court of Federal Claims No: 21-1027V

12. Aaron Cook, Salem, Virginia, Court of Federal Claims No: 21-1029V

13. Charles Hess, Manhattan, Kansas, Court of Federal Claims No: 21-1031V

14. Nora Wyman, Washington, District of Columbia, Court of Federal Claims No: 21-1032V

15. Bridget Bailey, San Antonio, Texas, Court of Federal Claims No: 21-1034V

16. Tina Marie Moore, Newark, Ohio, Court of Federal Claims No: 21-1038V

17. Mary Cama, Washington, District of Columbia, Court of Federal Claims No: 21-1039V

18. Tara Nowakowski on behalf of A.N., Duluth, Georgia, Court of Federal Claims No: 21-1040V

19. Kenneth Fields, Somerset, Kentucky, Court of Federal Claims No: 21-1042V

20. Patricia Watkins, Houston, Texas, Court of Federal Claims No: 21-1044V

21. Naho Miyachi, Princeton, Minnesota, Court of Federal Claims No: 21-1046V

22. Aurea Maria Ortiz Viera, San Juan, Puerto Rico, Court of Federal Claims No: 21-1049V

23. Philip Wisniewski, Washington, District of Columbia, Court of Federal Claims No: 21-1052V

24. Vanessa Baker, Bellingham, Washington, Court of Federal Claims No: 21-1054V

25. Brett Cassese, Washington, District of Columbia, Court of Federal Claims No: 21-1055V

26. Rachel Garcia, Boulder, Colorado, Court of Federal Claims No: 21-1056V

27. Kayla Smith, Cheyenne, Wyoming, Court of Federal Claims No: 21-1059V

28. Elaine Letizia, Hilton Head, South Carolina, Court of Federal Claims No: 21-1062V

29. Deborah Gross, Washington, District of Columbia, Court of Federal Claims No: 21-1063V

30. Marna Brickman, Washington, District of Columbia, Court of Federal Claims No: 21-1066V

31. Katherine Murphy, Salt Lake City, Utah, Court of Federal Claims No: 21-1069V

32. Tori Jonet, Luxemburg, Wisconsin, Court of Federal Claims No: 21-1071V

33. Leah Carter, Washington, District of Columbia, Court of Federal Claims No: 21-1077V

34. Ethel M. Britt on behalf of Estate of James E. Britt, Murfreesboro, Tennessee, Court of Federal Claims No: 21-1078V

35. Adrienne Falzon on behalf of Estate of Paul Giaccio, Deceased, Atlanta, Georgia, Court of Federal Claims No: 21-1082V

36. Elizabeth Fordahl, Bismarck, North Dakota, Court of Federal Claims No: 21-1086V

37. Hogla Prado, Beaverton, Oregon, Court of Federal Claims No: 21-1087V

38. Lisa Myers, Winston-Salem, North Carolina, Court of Federal Claims No: 21-1088V

39. Brandi Rose Wilson, Lenexa, Kansas, Court of Federal Claims No: 21-1090V

40. Antonio Jackson, Black River Falls, Wisconsin, Court of Federal Claims No: 21-1091V

41. Sungjin Choi, Prospect Heights, Illinois, Court of Federal Claims No: 21-1092V

42. Jennifer Counceller, Connersville, Indiana, Court of Federal Claims No: 21-1093V

43. Shawntel Denmark, Washington, District of Columbia, Court of Federal Claims No: 21-1094V

44. Abram Gamino, Washington, District of Columbia, Court of Federal Claims No: 21-1096V

45. Rachel Page, Washington, District of Columbia, Court of Federal Claims No: 21-1097V

46. Arianna Reddicks, Phoenix, Arizona, Court of Federal Claims No: 21-1099V

47. Italo A. Miceli, Rocky Hill, Connecticut, Court of Federal Claims No: 21-1100V

48. Alice Henningsen, Wichita, Kansas, Court of Federal Claims No: 21-1101V

49. Randall Schutz, Chicago, Illinois, Court of Federal Claims No: 21-1103V

50. Camille Dumentat, Severna Park, Maryland, Court of Federal Claims No: 21-1104V

51. Melanie Muhlstock and Todd Muhlstock on behalf of A.M., Phoenix, Arizona, Court of Federal Claims No: 21-1106V

52. Stephen Ziegler, Lincoln, Nebraska, Court of Federal Claims No: 21-1109V

53. Bernetta Polley, Mankato, Minnesota, Court of Federal Claims No: 21-1111V

54. Carol Lloyd, Sicklerville, New Jersey, Court of Federal Claims No: 21-1112V

55. Andrea Jordan, Hillsboro, Oregon, Court of Federal Claims No: 21-1113V

56. Greta Sessoms, Virginia Beach, Virginia, Court of Federal Claims No: 21-1120V

57. Ruth Williams, Washington, District of Columbia, Court of Federal Claims No: 21-1121V

58. Paulette Penzvalto, Washington, District of Columbia, Court of Federal Claims No: 21-1122V

59. Rebecca Hawes, Nitro, West Virginia, Court of Federal Claims No: 21-1124V

60. Jennifer Puckett, Montgomery, Alabama, Court of Federal Claims No: 21-1125V

61. Sheryl Young, Washington, District of Columbia, Court of Federal Claims No: 21-1126V

62. Harold Sykes, Washington, District of Columbia, Court of Federal Claims No: 21-1127V

63. Sharon Dunn, Washington, District of Columbia, Court of Federal Claims No: 21-1128V

64. Matthew Caruso on behalf of L.C., Hollidaysburg, Pennsylvania, Court of Federal Claims No: 21-1131V

65. Donald Holmberg, Erie, Pennsylvania, Court of Federal Claims No: 21-1132V

66. Roman Gelevan, Bronx, New York, Court of Federal Claims No: 21-1133V

67. Jimmy Zavala, Boscobel, Wisconsin, Court of Federal Claims No: 21-1134V

68. Taylor Wickline, Phoenix, Arizona, Court of Federal Claims No: 21-1135V

69. Michael Wakileh, Costa Mesa, California, Court of Federal Claims No: 21-1136V

70. Barbara McNair, New Lenox, Illinois, Court of Federal Claims No: 21-1139V

71. Kerrie Burkett, Phoenix, Arizona, Court of Federal Claims No: 21-1140V

72. Ngoc H. Lam, Greenville, South Carolina, Court of Federal Claims No: 21-1141V

73. Donald Olson, Seattle, Washington, Court of Federal Claims No: 21-1142V

74. Ashton Schultz, Englewood, New Jersey, Court of Federal Claims No: 21-1144V

75. Kotana Cromartie, Washington, District of Columbia, Court of Federal Claims No: 21-1145V

76. Jennifer Soileau, Englewood, New Jersey, Court of Federal Claims No: 21-1146V

[FR Doc. 2021-07970 Filed 4-16-21; 8:45 am]

BILLING CODE 4165-15-P